DEPARTMENT OF THE INTERIOR

Bureau of Land Management

[LL WO31000.L13100000.PB0000.24 1E]

Renewal and Revision of Approved Information Collection

AGENCY: Bureau of Land Management, Interior.

ACTION: 60-Day Notice and Request for Comments.

SUMMARY: In compliance with the Paperwork Reduction Act of 1995, the Bureau of Land Management (BLM) invites public comments on, and plans to request approval to continue, the collection of information from individuals, small businesses, and large corporations who wish to assign record title or transfer operating rights in a lease for oil and gas or geothermal resources. The Office of Management and Budget (OMB) has assigned control number 1004-0034 to this information collection.

DATES: Submit comments on the proposed information collection by March 26, 2012.

ADDRESSES: Comments may be submitted by mail, fax, or electronic mail.

Mail: U.S. Department of the Interior, Bureau of Land Management, 1849 C Street NW., Room 2134LM, Attention: Jean Sonneman, Washington, DC 20240.

Fax: to Jean Sonneman at (202) 245-0050.

Electronic mail: Jean_Sonneman@blm.gov.

Please indicate “Attn: 1004-0034” regardless of the form of your comments.

FOR FURTHER INFORMATION CONTACT: Barbara Gamble, Division of Fluid Minerals, at (202) 912-7148. Persons who use a telecommunication device for the deaf (TDD) may call the Federal Information Relay Service (FIRS) at 1 (800) 877-8339, to leave a message for Ms. Gamble.

SUPPLEMENTARY INFORMATION: OMB regulations at 5 CFR part 1320, which implement provisions of the Paperwork Reduction Act, 44 U.S.C. 3501-3521, require that interested members of the public and affected agencies be given an opportunity to comment on information collection and recordkeeping activities (see 5 CFR 1320.8(d) and 1320.12(a)). This notice identifies an information collection that the BLM plans to submit to OMB for approval. The Paperwork Reduction Act provides that an agency may not conduct or sponsor a collection of information unless it displays a currently valid OMB control number. Until OMB approves a collection of information, you are not obligated to respond.

The BLM will request a 3-year term of approval for this information collection activity. Comments are invited on: (1) The need for the collection of information for the performance of the functions of the agency; (2) the accuracy of the agency's burden estimates; (3) ways to enhance the quality, utility and clarity of the information collection; and (4) ways to minimize the information collection burden on respondents, such as use of automated means of collection of the information. A summary of the public comments will accompany our submission of the information collection requests to OMB.

The following information is provided for the information collection:

• Title: Oil, Gas, and Geothermal Resources: Transfers and Assignments (43 CFR Subparts 3106, 3135, and 3216).

Forms:

• Form 3000-3, Assignment of Record Title Interest in a Lease for Oil and Gas or Geothermal Resources; and

• Form 3000-3a, Transfer of Operating Rights (Sublease) in a Lease for Oil and Gas or Geothermal Resources.

OMB Control Number: 1004-0034.

Abstract: The information collected in Form 3000-3 enables the BLM to process applications to transfer interests in oil and gas or geothermal leases by assignment of record title. The information collected in Form 300-3a enables the BLM to process applications to transfer operating rights in (i.e., sublease) oil and gas or geothermal leases. The information in both forms enables the BLM to identify the interest that is proposed to be assigned or transferred; determine whether the proposed assignee or transferee is qualified to obtain the interest sought; and ensure that the proposed assignee or transferee does not exceed statutory acreage limitations.

Frequency of Collection: On occasion. Responses are required to obtain or retain a benefit.

Estimated Number and Description of Respondents: Approximately 4,000 individuals, small businesses, and large corporations apply to assign record title or transfer operating rights (sublease) in a lease for oil and gas or geothermal resources. The estimated number of responses exceeds the estimated number of respondents because some respondents file multiple transfers or assignments annually, while others may file just one.

Estimated Reporting and Recordkeeping “Hour” Burden: For oil and gas: 5,427 hours; for geothermal resources: 39½ hours. The combined total is 5,466½ hours.

Estimated Reporting and Recordkeeping “Non-Hour Cost” Burden: For oil and gas: $271,350; for geothermal: $3,950. The combined total is $275,300.

The following table details the individual components and respective hour burdens of this information collection request:

A. Type of response | B. Number of responses | C. Time per response (minutes) | D. Total hours (Column B × Column C)
Assignment of Record Title Interest/Oil and Gas Leases:
43 CFR 3106.4-1 Form 3000-3 | 6,428 | 30 | 3,214
Assignment of Record Title Interest/Geothermal Resources:
43 CFR 3216.14 Form 3000-3 | 70 | 30 | 35
Transfer of Operating Rights/Oil and Gas Leases:
43 CFR 3106.4-1 Form 3000-3a | 4,426 | 30 | 2,213 | Transfer of Operating Rights/Geothermal Resources:
43 CFR 3216.14 Form 3000-3a | 9 | 30 | 4.5
Totals | 10,933 |  | 5,466.5

Before including your address, telephone number, email address, or other personal identifying information in your comments, be advised that your entire comment—including your personal identifying information—may be made publicly available at any time. While you can ask in your comment to withhold from public review your personal identifying information, we cannot guarantee that we will be able to do so.

Jean Sonneman,
Bureau of Land Management, Information Collection Clearance Officer.

[FR Doc. 2012-1297 Filed 1-23-12; 8:45 am]

BILLING CODE 4310-84-P